DEPARTMENT OF HOMELAND SECURITY

Preparedness Directorate, Office of Infrastructure Preparedness; Submission for New Collection (Chemical Facility Security Training Program)

AGENCY: Preparedness Directorate, Office of Infrastructure Preparedness, Department of Homeland Security.

ACTION: Notice; 60-day notice request for comments.

SUMMARY: The Department of Homeland Security (DHS) invites the general public and other federal agencies the opportunity to comment on approved information collection request (ICR) OMB 1670-NEW. As required by the Paperwork Reduction Act of 1995, (Pub. L. 104-13, 44 U.S.C. chapter 35) as amended by the Clinger-Cohen Act (Pub. L. 104-106), DHS is soliciting comments for the approved information collection request.

DATES: Written comments should be received on or before April 24, 2007 to be assured consideration.

ADDRESSES: OIP CNPPD, Attn: Amy Freireich, 1800 South Bell Street 8th Floor, Arlington, VA 22202 or e-mail amy.freireich@hq.dhs.gov or call 703-605-1203.

FOR FURTHER INFORMATION CONTACT: Interested persons are invited to submit written comments on the proposed information collection to the Office of Information and Regulatory Affairs, Office of Management and Budget. Comments should be addressed to Nathan Lesser, Desk Officer, Department of Homeland Security/ Preparedness Directorate, Office of Infrastructure Protection, and sent via electronic mail to oira_submission@omb.eop.gov or faxed to (202) 395-6974.

SUPPLEMENTARY INFORMATION: Direct all written comments to both the Department of Homeland Security and the Office of Information and Regulatory Affairs at the above addresses. A copy of this ICR, with applicable supporting documentation, may be obtained by calling the Paperwork Reduction Act Contact listed above.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Preparedness Directorate, Office of Infrastructure Preparedness.

Title: DHS Chemical Facility Security Training Program.

OMB Number: 1670-NEW.

Frequency: Annually.

Affected Public: Businesses or other for-profit.

Estimated Number of Respondents: 400,000.

Estimated Time Per Respondent: 60 minutes.

Total Burden Hours: 400,000.

Total Burden Cost: (capital/startup): $0.

Total Burden Cost: (operating/maintaining): $16,000 annually.

Description: The DHS Chemical and Nuclear Preparedness and Protection Division (CNPPD) is providing an Internet on-line voluntary training program to improve security in the chemical industry sector. Information is automatically collected in a computer database as result of individuals engaging in the training. Explicit reporting or recordkeeping is not required. The training is designed for the general chemical facility employee. U.S. chemical industry direct employment is about 882,000 (2004 per American Chemisty Council); approximately half of employees are estimated as potential participants. Estimated duration of training is 30 to 60 minutes in first year, and less if individuals do “refresher” in succeeding years. Minimal participation data are collected automatically as trainee completes the on-line exercises. Upon completion, a Certificate of Completion is generated at the trainee's computer work station, printed and optionally e-mailed to a facility supervisor. DHS will monitor program participation, success in training and basic distribution variables submitted upon registration, but not personal identification, and may analyze and report to government management, Congress and the public periodically.

Charlie Church,
Director, Information and Technology Division, Chief Information Officer, Preparedness Directorate.

[FR Doc. E7-3065 Filed 2-22-07; 8:45 am]

BILLING CODE 4410-10-P